DEPARTMENT OF JUSTICE

Notice of Lodging of a Consent Decree Under the Comprehensive Environmental Response, Compensation and Liability Act

Under 42 U.S.C. 9622(i), notice is hereby given that on July 11, 2001, two proposed Consent Decrees in United States v. Mountain Metal Co., et al., Civil Action No. CV-98-C-2562-S and CV-98-C-2886-S were lodged with the United States District Court for the Northern District of Alabama.

In this action, the United States sought reimbursement of costs incurred in responding to the release and threatened release of hazardous substances at the ILCO battery cracking site in Leeds, Alabama. A group of previous settlers also sued to obtain contribution for their costs in performing work at the site. In these Consent Decrees, sixteen parties are settling their liability to the United States and the private plaintiffs by paying a total of $4,877,575. The settling parties include the following, as well as certain related individuals and entities: Mayfield Manufacturing Company, New Bern Street Realty, Elizabethton Herb & Metal, Red Ball Oxygen Co., Commercial Iron & Metals, IBS of Nashville, Resource Alloys and Metals, Aaron Scrap, Metropolitan Metals, Mathis Battery, Smith Metals, All Scrap Salvage, D & R Battery, Bob's Recycling, Denbo Iron & Metal, and Powerlab, Inc. Prior to these Consent Decrees, the United States obtained partial reimbursement of its costs through judicial settlements with 42 parties and administrative settlements with 286 parties.

The Department of Justice will receive for a period of thirty (30) days from the date of this publication comments relating to the Consent Decrees. Comments should be addressed to the Assistant Attorney General, Environment and Natural Resources Division, P.O. Box 7611, U.S. Department of Justice, Washington, D.C. 20044-7611, and should refer to United States v. Mountain Metal Co., et al., D.J. Ref. 90-11-2-108/2.

The Consent Decrees may be examined at the Office of the United States Attorney, 200 Robert S. Vance Fed. Bldg., 1800 5th Avenue N., Room 200, Birmingham, Alabama, and at U.S. EPA Region 4, 61 Forsyth Street, Atlanta, Georgia. A copy of the Consent Decrees may also be obtained by mail from the Consent Decree Library, P.O. Box 7611, U.S. Department of Justice, Washington, DC 20044-7611. In requesting a copy, please enclose a check in the amount of $34.75 (25 cents per page reproduction cost) payable to the Consent Decree Library.

Walker B. Smith,
Principal Deputy, Environmental Enforcement Section, Environment and Natural Resources Division.

[FR Doc. 01-20526 Filed 8-14-01; 8:45 am]

BILLING CODE 4410-15-M